FEDERAL COMMUNICATIONS COMMISSION

[OMB 3060-0214 and 3060-0649]

Information Collections Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before May 3, 2017. If you anticipate that you will be submitting comments, but find it difficult to do so within the period of time allowed by this notice, you should advise the contacts listed below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0214.

Title: Sections 73.3526 and 73.3527, Local Public Inspection Files; Sections 73.1212, 76.1701 and 73.1943, Political Files.

Form Number: None.

Type of Review: Revision of a currently approved collection.

Respondents: Business or other for profit entities; Not for profit institutions; State, local or Tribal government.

Number of Respondents/Responses: 41,695 respondents; 63,364 responses.

Estimated Hours per Response: 1-52 hours per response.

Frequency of Response: On occasion reporting requirement, Recordkeeping requirement, Third party disclosure requirement.

Total Annual Burden: 2,073,048 hours.

Total Annual Cost: $3,667,339.

Obligation to Respond: Required to obtain or retain benefits. The statutory authority for this information collection is contained in sections 151, 152, 154(i), 303, 307, and 308 of the Communications Act of 1934, as amended.

Nature and Extent of Confidentiality: There is no need for confidentiality with this collection of information.

Privacy Act Assessment: No impact(s).

Needs and Uses: The Commission is revising this collection to reflect the Commission's adoption of a Report and Order (“R&O”) in MB Docket No. 16-161, FCC 17-3, In the Matter of Revisions to Public Inspection File Requirements—Broadcaster Correspondence File and Cable Principal Headend Location, adopted on January 31, 2017. The R&O removes the information collection requirements and the associated burdens of 47 CFR 73.1202 and 73.3526(e)(9). This collection is being resubmitted as a result of the final rule—initially submitted at the proposed rule stage. The Commission is now seeking final approval from the information collection requirements from the Office of Management and Budget (OMB).

While the general public does not need principal headend location information, that information must be made available to certain entities, including the FCC and local television stations. The R&O requires cable operators to provide this information to the FCC, television stations, and franchisors upon request. In lieu of responding to individual requests for such information, operators may alternatively elect voluntarily to provide this information to the Commission for inclusion in the Commission's online public inspection file (“OPIF”) database and may elect to make the information publicly available there.

OMB Control Number: 3060-0649.

Title: Section 76.1601, Deletion or Repositioning of Broadcast Signals; Section 76.1617, Initial Must-Carry Notice; Section 76.1607, Principal Headend.

Form Number: Not applicable.

Type of Review: Revision of a currently approved collection.

Respondents: Business or other for profit entities; Not for profit institutions.

Number of Respondents/Responses: 3,300 respondents; 3,950 responses.

Estimated Hours per Response: 0.5 hours-1 hour.

Frequency of Response: On occasion reporting requirement, Third party disclosure requirement.

Total Annual Burden: 2,050 hours.

Total Annual Cost: No cost.

Obligation to Respond: Required to obtain or retain benefits. The statutory authority for this information collection is contained in section 4(i) of the Communications Act of 1934, as amended.

Nature and Extent of Confidentiality: There is no need for confidentiality with this collection of information.

Privacy Act Assessment: No impact(s).

Needs and Uses: The Commission is revising this collection to reflect the Commission's adoption of a Report and Order (“R&O”) in MB Docket No. 16-161, FCC 17-3, In the Matter of Revisions to Public Inspection File Requirements—Broadcaster Correspondence File and Cable Principal Headend Location, adopted on January 31, 2017. The R&O removes and reserves 47 CFR Section 76.1708. This collection is being resubmitted as a result of the final rule—initially submitted at the proposed rule stage. The Commission is now seeking final approval from the information collection requirements from the Office of Management and Budget (OMB).

While it appears that the general public does not need access to it, principal headend information must be made available to certain entities, including the FCC and local television stations. The R&O requires that this information be made available upon request.

Federal Communications Commission.
Sheryl D. Todd,
Deputy Secretary, Office of the Secretary.

[FR Doc. 2017-06482 Filed 3-31-17; 8:45 am]

BILLING CODE 6712-01-P